ENVIRONMENTAL PROTECTION AGENCY

40 CFR Part 52

[MO 180-1180; FRL-7514-1]

Approval and Promulgation of Implementation Plans; State of Missouri

AGENCY: Environmental Protection Agency (EPA).

ACTION: Proposed rule.

SUMMARY: EPA proposes to approve a revision to the Missouri State Implementation Plan (SIP) which pertains to the control of emissions from Perchloroethylene Dry Cleaning Installations in Kansas City and St. Louis areas, respectively. This revision will rescind two rules that have been superseded by the statewide Maximum Achievable Control Technology rule. There is no relaxation of controls by rescinding these rules. Approval of this revision will eliminate redundancy and conflicting requirements. In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment.

DATES: Comments on this proposed action must be received in writing by July 18, 2003.

ADDRESSES: Comments may be mailed to Amy Algoe-Eakin, Environmental Protection Agency, Air Planning and Development Branch, 901 North 5th Street, Kansas City, Kansas 66101, or E-mail her at algoe-eakin.amy@epa.gov.

FOR FURTHER INFORMATION CONTACT: Amy Algoe-Eakin at (913) 551-7942.

SUPPLEMENTARY INFORMATION: See the information provided in the direct final rule which is located in the rules section of the Federal Register.

Dated: June 8, 2003.
James B. Gulliford,
Regional Administrator, Region 7.

[FR Doc. 03-15252 Filed 6-17-03; 8:45 am]

BILLING CODE 6560-50-P